DEPARTMENT OF LABOR

Employment and Training Administration

[TA-W-64,058]

Meridian Automotive Systems, Currently Known as Ventra, Ionia, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on October 31, 2008, applicable to workers of Meridian Automotive Systems, Ionia, Michigan. The notice was published in the Federal Register on November 13, 2008 (73 FR 67209).

At the request of the State agency, the Department reviewed the certification for workers of the subject firm. The workers were engaged in the production of light truck bumper assemblies, grills and service parts for the automotive industry.

The company reports that in July 2009, Ventra purchased Meridian Automotive Systems and is now known as Ventra.

Accordingly, this certification is being amended to include workers at Meridian Automotive Systems, Ionia, Michigan whose wages are reported under the Unemployment Insurance (UI) tax account name for Ventra.

The intent of the Department's certification is to include all workers of the subject firm who were adversely affected as an upstream supplier to a trade certified primary firm.

The amended notice applicable to TA-W-64,058 is hereby issued as follows:

All workers of Meridian Automotive Systems, currently known as Ventra, Ionia, Michigan, who became totally or partially separated from employment on or after September 8, 2007, through October 31, 2010, are eligible to apply for adjustment assistance under Section 223 of the Trade Act of 1974, and are also eligible to apply for alternative trade adjustment assistance under Section 246 of the Trade Act of 1974.

Signed at Washington, DC, this 19th day of April 2010.
Richard Church,
Certifying Officer, Division of Trade Adjustment Assistance.

[FR Doc. 2010-9928 Filed 4-28-10; 8:45 am]

BILLING CODE 4510-FN-P